DEPARTMENT OF THE INTERIOR

Bureau of Land Management

[CO-140-1430-ES; COC-63586, COC-40272]

Notice of Realty Action; Recreation and Public Purposes (R&PP) Act Classification; Colorado

AGENCY: Bureau of Land Management, Interior.

ACTION: Notice.

SUMMARY: The Bureau of Land Management (BLM) has examined and found suitable for classification for conveyance under the provisions of the Recreation and Public Purposes (R&PP) Act, 25 acres of public land in Eagle County, Colorado. The Eagle River Water and Sanitation District proposes to use the land for a biosolids treatment and storage facility.

DATES: Comments should be received by February 12, 2007.

ADDRESSES: Comments should be sent to the BLM, Grand Junction Field Office, 2815 H Road, Grand Junction, Colorado, ATTN: Alan Kraus. Detailed information concerning this action, including appropriate environmental documentation, is available for review at the above address or at the BLM Glenwood Springs Field Office, 50629 Highway 6 and 24, Glenwood Springs, Colorado 81602.

FOR FURTHER INFORMATION CONTACT: Alan Kraus at the above address or by telephone at (970) 244-3078.

SUPPLEMENTARY INFORMATION: In response to an application from the Eagle River Water and Sanitation District (ERWSD), Colorado, the following public lands have been examined and found suitable for classification for conveyance under the provisions of the Recreation and Public Purposes Act, as amended (43 U.S.C. 869 et seq. and 43 CFR Subpart 2743). The lands are currently used by the ERSWD under the terms of Bureau of Land Management Right-of-Way COC-40272 and would continue to be used to treat and store municipal wastewater treatment plant sludges. Additional adjacent land would also be used for this purpose.

Sixth Principal Meridian, Colorado

T 4 S., R 83 W.,

sec. 11; E½NE¼SE¼NW¼, and N½SW¼NE¼.

The area described contains 25 acres, more or less, in Eagle County.

The lands are not needed for Federal purposes. Conveyance is consistent with current Bureau land-use planning and would be in the public interest. The patent, if issued, will be subject to the following reservations, terms, and conditions:

(1) Provisions of the Recreation and Public Purposes Act and all applicable regulations of the Secretary of the Interior.

(2) The patentee shall comply with all Federal and State laws applicable to the disposal, placement, or release of hazardous substances (hazardous substance as defined in 40 CFR Part 302.)

(3) A right-of-way thereon for ditches and canals constructed by authority of the United States, pursuant to the Act of August 30, 1890 (43 U.S.C. 945).

(4) Those rights for electric transmission line purposes granted by right-of-way COC-31358.

(5) Those rights for telephone line purposes granted by right-of-way COC-50820.

(6) Any other valid and existing rights of record.

(7) Eagle River Water and Sanitation District, its successors or assigns, shall defend, indemnify, and save harmless the United States and its officers, agents, representatives, and employees (hereinafter referred to in this clause as the United States) from all claims, loss, damage, actions, causes of action, expense, and liability (hereinafter referred to in this clause as claims) resulting from, brought for, or on account of, any personal injury, threat of personal injury, or property damage received or sustained by any person or persons (including the patentee's employees) or property growing out of, occurring, or attributable directly or indirectly, to the disposal of solid waste on, or the release of hazardous substances from: Sixth Principal Meridian, Colorado, Sec.11: E½NE¼SE¼NW¼, N½SW¼NE¼, regardless of whether such claims shall be attributable to: (1) The concurrent, contributory, or partial fault, failure, or negligence of the United States, or (2) the sole fault, failure, or negligence of the United States. In the event of payment, loss, or expense under this agreement, the patentee shall be subrogated to the extent of the amount of such payment to all rights, powers, privileges, and remedies of the United States against any person regarding such payment, loss, or expense.

(8) Such other provisions as may be required by law.

Upon publication of this notice in the Federal Register, the lands will be segregated from all forms of appropriation under the public land laws, including the general mining laws, except for conveyance under the Recreation and Public Purposes Act. The segregative effect shall terminate upon issuance of a patent or upon publication in the Federal Register of an opening order, whichever occurs first.

Classification Comments: Interested parties may submit comments involving the suitability of the land to treat and store municipal wastewater treatment plant sludge. Comments on the classification are restricted to whether the land is physically suited for the proposed use, whether the use will maximize the future use or uses of the land, whether the use is consistent with local planning and zoning, or whether the use is consistent with State and Federal programs.

Application Comments: Interested parties may submit comments regarding the specific use proposed in the application and plan of development, whether the BLM followed proper administrative procedures in reaching the decision, or any other factor not directly related to the suitability of the land for the proposed use.

All submissions from organizations or businesses will be made available for public inspection in their entirety. Individuals may request confidentiality with respect to their name, address, and phone number. If you wish to have your name or street address withheld from public review or from disclosure under the Freedom of Information Act, the first line of the comment should start with the words “CONFIDENTIALITY REQUEST” in uppercase letters in order for BLM to comply with your request. Such requests will be honored to the extent allowed by law. Comment contents will not be kept confidential. Any objections will be evaluated by the State Director, who may sustain, vacate, or modify this realty action. In the absence of any adverse comments, this realty action will become the final determination of the Department of the Interior.

Comments must be received by February 12, 2007. In the absence of any adverse comments, the classification will become effective February 27, 2007.

(Authority: 43 CFR part 2741.5)

Steve Bennett,
Associate Field Manager, Glenwood Springs Field Office.

[FR Doc. E6-22331 Filed 12-28-06; 8:45 am]

BILLING CODE 4310-JB-P